DEPARTMENT OF HOMELAND SECURITY

Coast Guard

33 CFR Part 117

[Docket No. USCG-2015-0772]

Drawbridge Operation Regulation; Housatonic River, Stratford, CT

AGENCY: Coast Guard, DHS.

ACTION: Notice of deviation from drawbridge regulation.

SUMMARY: The Coast Guard has issued a temporary deviation from the operating schedule that governs the Devon Bridge, across the Housatonic River, mile 3.9, at Stratford, CT. This deviation is necessary to perform superstructure repairs and timber ties replacement. This deviation allows the bridge to remain in the closed position for 50 days.

DATES: This deviation is effective from 8 a.m. on October 5, 2015 to 8 a.m. on November 23, 2015.

ADDRESSES: The docket for this deviation, [USCG-2015-0772] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, contact Ms. Judy K. Leung-Yee, Project Officer, First Coast Guard District, telephone (212) 514-4330, email judy.k.leung-yee@uscg.mil. If you have questions on viewing the docket, call Ms. Cheryl Collins, Program Manager, Docket Operations, telephone (202) 366-9826.

SUPPLEMENTARY INFORMATION: The Devon Bridge, mile 3.9, across Housatonic River has a vertical clearance in the closed position of 19 feet at mean high water and 25 feet at mean low water. The existing bridge operating regulations are found at 33 CFR 117.207(b).

The waterway is transited by seasonal recreational vessels.

Connecticut DOT requested this temporary deviation from the normal operating schedule to perform superstructure repairs and timber ties replacement.

Under this temporary deviation, the Devon Bridge will operate according to the schedule below:

a. From 8 a.m. on October 5, 2015 through 4 a.m. on October 9, 2015, the bridge will not open to marine traffic.

b. From 4 a.m. on October 9, 2015 through 8 a.m. on October 12, 2015, the bridge will open fully on signal upon 24 hour advance notice.

c. From 8 a.m. on October 12, 2015 through 4 a.m. on October 16, 2015, the bridge will not open to marine traffic.

d. From 4 a.m. on October 16, 2015 through 8 a.m. on October 19, 2015, the bridge will open fully on signal upon 24 hour advance notice.

e. From 8 a.m. on October 19, 2015 trough 4 a.m. on October 23, 2015, the bridge will not open to marine traffic.

f. From 4 a.m. on October 23, 2015 through 8 a.m. on October 26, 2015, the bridge will open fully on signal upon 24 hour advance notice.

g. From 8 a.m. on October 26, 2015 through 4 a.m. on October 30, 2015, the bridge will not open to marine traffic.

h. From 4 a.m. on October 30, 2015 through 8 a.m. on November 2, 2015, the bridge will open fully on signal upon 24 hour advance notice.

i. From 8 a.m. on November 2, 2015 through 4 a.m. on November 6, 2015, the bridge will not open to marine traffic.

j. From 4 a.m. on November 6, 2015 through 8 a.m. on November 9, 2015, the bridge will open fully on signal upon 24 hour advance notice.

k. From 8 a.m. on November 9, 2015 through 4 a.m. on November 13, 2015, the bridge will not open to marine traffic.

l. From 4 a.m. on November 13, 2015 through 8 a.m. on November 16, 2015, the bridge will open fully on signal upon 24 hour advance notice.

m. From 8 a.m. on November 16, 2015 through 4 a.m. on November 20, 2015, the bridge will not open to marine traffic.

n. From 4 a.m. on November 20, 2015 through 8 a.m. on November 23, 2015, the bridge will open fully on signal upon 24 hour advance notice.

The bridge will not be able to open in the event of an emergency. There is no alternate route for vessel traffic; however, vessels that can pass under the closed draws during this closure may do so at any time.

The Coast Guard will inform the users of the waterway through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 19, 2015.
C.J. Bisignano,
Supervisory Bridge Management Specialist, First Coast Guard District.

[FR Doc. 2015-21371 Filed 8-27-15; 8:45 am]

BILLING CODE 9110-04-P